DEPARTMENT OF HEALTH AND HUMAN SERVICES

National Institutes of Health

National Cancer Institute; Proposed Collection; Comment Requested; Study to Improve Thyroid Doses from Fallout Exposure in Kazakhstan

SUMMARY: In compliance with the requirement of Section 3507(a)(1)(D) of the Paperwork Reduction Act of 1995 for opportunity for public comment on proposed data collection projects, the National Cancer Institute (NCI), the National Institutes of Health (NIH) will publish periodic summaries of proposed projects to be submitted to the Office of Management and Budget (OMB) for review and approval of the information collection listed below. This proposed information collection was previously published in the Federal Register on January 18, 2007, pages 2286-2287 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Study to improve thyroid doses from fallout exposure in Kazakhstan, Radiation Epidemiology Branch, Division of Cancer Epidemiology and Genetics, National Cancer Institute (NCI). This is a dose reconstruction effort. Additional data will be acquired to improve on published estimates of individual internal and external radiation dose and better characterize the underlying dose uncertainties for individuals exposed as children to radioactive fallout from nuclear tests conducted at the Semipalatinsk Nuclear Test Site (SNTS) in Kazakhstan during the 1950s. Village residents near the test site received high doses of internal and external radiation to the thyroid gland (up to 10 Gy for internal and 0.6 Gy for external radiation) as a result of multiple nuclear tests. Internal radiation exposure occurred primarily through consumption of milk and other dairy products from animals grazing on pastures contaminated with radioactive iodine. The external dose received by individuals was a function of the exposure rate when the fallout was deposited, shielding provided by buildings and the number of hours spent outdoors on a daily basis. Collection from small focus groups of persons who were young adults at the time of the nuclear tests of specific information about children's milk consumption and time spent indoors and outdoors, shielding, and pasturing and feeding of dairy animals for the months following the nuclear tests will allow dosimetrists to evaluate and change, as appropriate, the current assumptions and input values for the parameters of the dose estimation model. The new data will allow more objective model assumptions and result in a more informed characterization of uncertainty.

Type of information collection request: NEW. The Kazakhstan population was exposed to high levels of radiation from external as well as internal sources, unlike the vast majority of persons living downwind from the Chernobyl accident who were exposed only to radioactive isotopes of ingested and inhaled iodine. Availability of accurate dose estimates will allow evaluation of the relative biological effectiveness (RBE) of internal vs. external radiation exposures in terms of thyroid disease risk within a single population. The conditions of fallout exposure in Kazakhstan are directly relevant to conditions following a hypothetical nuclear accident or a terrorist attack involving high levels of local fallout.

Need and Use of Information Collection: NCI proposes a small-scale field study to acquire new data to improve published estimates of internal and external radiation doses to individuals exposed to fallout from nuclear tests conducted at the SNTS during 1949-1962. Retrospective information about factors influencing radiation dose to the thyroid gland in children of two distinct ethnic groups (Kazakh and Russian) will be collected using focus group interviews. New data to be collected on milk and milk product consumption, time typically spent outdoors, radiation shielding provided by dwellings and other buildings, and seasonal practices of pasturing and supplemental feeding of dairy animals at the time of the nuclear tests will enable dosimetrists to address key weaknesses in the current dosimetry models. Since the objective is to estimate group-specific mean values (and ranges) and not to collect individual data, focus groups are better suited than conventional in-depth individual interviews. Focus group members will be recruited from among women and men who speak Russian or Kazakh and have a verified history of residence in the village at the time of the nuclear tests. In each village, three groups of 8 women, age 70 or older, who had children or provided care to other children (e.g., younger siblings, nieces and nephews) who were under age 21 at the time of the nuclear tests will be enrolled. In each village, 8 men, age 70 or older, who were engaged in farming and the care of dairy animals at the time of the nuclear tests will be enrolled.

Frequency of Response: Once. Affected Public: Individual and household. Type of Respondent: Women and men, age 70 or older. Estimated Number of Respondents: 128. Estimated Number of Responses per Respondent: 1. Average Burden Hours per Response: 2.0. Annual Burden Hours Requested: 85.3.

Table 1.—Estimates of Annualized Hour Burden to Respondents
Type of respondent | Number of respondents | Frequency of response | Average hours per response | Total hours (3 yr) | Annual hour burden
Focus group
Kazakhstan villagers (adults) ≥70 yrs old) | 128 | 1 | 1.9 | 243 | 81.1
Post-focus group evaluation
Kazakhstan villagers (adults ≥70 yrs old) | 128 | 1 | 0.1 | 13 | 4.3
Total | 128 | 1 | 2.0 | 256 | 85.3

There are no capital, operating or maintenance costs to report.

Request For Comments

Written comments and/or suggestions from the public and affected agencies are invited on one or more of the following points: (1) Whether the proposed collection of information is necessary for the proposed performance of the functions of the agency, including whether the information shall have practical utility; (2) The accuracy of the agency's estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Kiyohiko Mabuchi, Principal Investigator, National Cancer Institute, Executive Plaza South, Room 7038, MSC 7238, Bethesda, Maryland 20852, or call non-toll free number 301-594-7469 or FAX your request, including your address to 301-402-0207.

Comments Due Date

Comments regarding this information collection are best assured of having their full effect if received within 30 days of this publication.

Dated: May 21, 2007.
Rachelle Ragland-Greene,
NCI Project Clearance Liaison, National Institutes of Health.

[FR Doc. E7-10331 Filed 5-29-07; 8:45 am]

BILLING CODE 4140-01-P